DEPARTMENT OF THE INTERIOR

National Park Service

[NPS-WASO-NAGPRA-NPS0033015; PPWOCRADN0-PCU00RP14.R50000]

Notice of Intent To Repatriate Cultural Items: McClure Archives and University Museum, University of Central Missouri, Warrensburg, MO

AGENCY: National Park Service, Interior.

ACTION: Notice.

SUMMARY: The McClure Archives and University Museum, University of Central Missouri, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the McClure Archives and University Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the McClure Archives and University Museum, University of Central Missouri, at the address in this notice by December 23, 2021.

FOR FURTHER INFORMATION CONTACT: Olivia Thomsen, NAGPRA Preparator, McClure Archives and University Museum of JCKL 1470, 601 Missouri Street, Warrensburg, MO 64093, telephone (660) 543-4649, email thomsen@ucmo.edu.

SUPPLEMENTARY INFORMATION: Notice is here given in accordance with the Native American Graves Protection and Repatriation Act (NAGPRA), 25 U.S.C. 3005, of the intent to repatriate cultural items under the control of the McClure Archives and University Museum, University of Central Missouri, Warrensburg MO, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1950 and 1980, three cultural items were removed from an unidentified region of Northern California. Anthropologist Robert Spier collected or bought three basket hats while doing research on the Hupa Tribe. The basket hats remained in Spier's personal collection until 2017, when his widow donated them, along with many other objects, to the McClure Archives and University Museum. The three objects of cultural patrimony are woven basket hats.

Based on an analysis by McClure Archive and University Museum staff, these baskets hats are related to the Wiyot Tribe, California. According to Robert Spier, the hats were collected from Northern California, where the traditional Wiyot Tribe lands are located. In consultation, a representative for the Wiyot Tribe described the traditional and ceremonial importance of basket hats within the Wiyot culture.

Determinations Made by the McClure Archives and University Museum, University of Central Missouri

Officials of the McClure Archives and University Museum, University of Central Missouri have determined that:

• Pursuant to 25 U.S.C. 3001(3)(D), the three cultural items described above have ongoing historical, traditional, or cultural importance central to the Native American group or culture itself, rather than property owned by an individual.

• Pursuant to 25 U.S.C. 3001(2), there is a relationship of shared group identity that can be reasonably traced between the objects of cultural patrimony and the Wiyot Tribe, California [previously listed as Table Bluff Reservation—Wiyot Tribe].

Additional Requestors and Disposition

Lineal descendants or representatives of any Indian Tribe or Native Hawaiian organization not identified in this notice that wish to claim these cultural items should submit a written request with information in support of the claim to Olivia Thomsen, NAGPRA Preparator, McClure Archives and University Museum of JCKL 1470, 601 Missouri Street, Warrensburg, MO 64093, telephone (660) 543-4649, email thomsen@ucmo.edu, by December 23, 2021. After that date, if no additional claimants have come forward, transfer of control of the objects of cultural patrimony to the Wiyot Tribe, California [previously listed as Table Bluff Reservation—Wiyot Tribe] may proceed. The McClure Archives and University Museum, University of Central Missouri, is responsible for notifying the Wiyot Tribe, California [previously listed as Table Bluff Reservation—Wiyot Tribe] that this notice has been published.

Dated: November 17, 2021.
Melanie O'Brien,
Manager, National NAGPRA Program.

[FR Doc. 2021-25525 Filed 11-22-21; 8:45 am]

BILLING CODE 4312-52-P